POSTAL REGULATORY COMMISSION

[Docket No. CP2014-22; Order No. 1937]

Change in Postal Prices

AGENCY: Postal Regulatory Commission.

ACTION: Notice.

SUMMARY: The Commission is noticing a recent Postal Service filing concerning changes in prices for Global Expedited Package Service—Non-Published Rates. This notice informs the public of the filing, invites public comment, and takes other administrative steps.

DATES: Comments are due: January 7, 2014.

ADDRESSES: Submit comments electronically via the Commission's Filing Online system at http://www.prc.gov. Those who cannot submit comments electronically should contact the person identified in the FOR FURTHER INFORMATION CONTACT section by telephone for advice on filing alternatives.

FOR FURTHER INFORMATION CONTACT: Stephen L. Sharfman, General Counsel, at 202-789-6820.

SUPPLEMENTARY INFORMATION:

Table of Contents

I. Introduction

II. Notice of Filings

III. Request for Supplemental Information

IV. Ordering Paragraphs

I. Introduction

In accordance with 39 CFR 3015.5 and Order Nos. 1625 ¹ and 1835,² the Postal Service filed a notice of a change in rates not of general applicability for the Global Expedited Package Services—Non-Published Rates 4 (GEPS-NPR 4) product.³ The Postal Service states that the change is necessary due to changes in the non-discounted published postage for Priority Mail Express International (PMEI), Priority Mail International (PMI), and Global Express Guaranteed (GXG), as well as the creation of a Management Analysis of the Prices and Methodology for Determining Prices for Negotiated Service Agreements under Global Expedited Package Services—Non-Published Rates 4 Version 2. Notice at 2-3. The Notice has been assigned Docket No. CP2014-22.

¹ Docket Nos. MC2013-27 and CP2013-35, Order Adding Global Expedited Package Services—Non-Published Rates 4 (GEPS-NPR 4) to the Competitive Product List, January 16, 2013 (Order No. 1625).

² Docket Nos. MC2013-27 and CP2013-35, Order Approving Revisions to Model Contract, September 16, 2013 (Order No. 1835).

³ Notice of the United States Postal Service of Change in Prices For Global Expedited Package Services—Non-Published Rates 4 (GEPS-NPR 4), December 26, 2013 (Notice).

Notice. In support of its Notice, the Postal Service filed the following attachments:

• Attachment 1—an application for non-public treatment of materials filed under seal;

• Attachment 2A—a redacted version of Governors' Decision No. 11-6;

• Attachment 2B—a redacted version of GEPS-NPR 4 Management Analysis Version 2;

• Attachment 2C—a list of Maximum and Minimum Prices for PMEI, PMI, and GXG under GEPS-NPR 4 Version 2 Contracts;

• Attachment 2D—a certified statement concerning prices for applicable negotiated service agreements under GEPS-NPR 4 Version 2 rates, as required by 39 CFR 3015.5(c)(2);

• Attachment 3—a redacted version of the GEPS-NPR 4 Version 2 model contract.

The Postal Service included a redacted version of the GEPS-NPR 4 Version 2 model contract with the Notice. Id. Attachment 3. The Postal Service represents that the GEPS-NPR 4 Version 2 model contract is almost identical to the revised GEPS-NPR 4 model contract approved by the Commission in Order No. 1835. Notice at 7. The Postal Service identifies three areas where the GEPS-NPR 4 Version 2 model contract differs from the revised GEPS-NPR 4 model contract: (1) The ACR docket numbers in Article 19 have been updated; (2) the docket number in the last sentence of Article 19 has been revised to reflect that GEPS-NPR 4 Version 2 contracts will be filed in this docket, rather than the GEPS-NPR 4 docket; and (3) in the footer of each page of the agreement, “2013” has been replaced with “2014”, and in the footer of the annexes to the agreement, “13” has been replaced with “14.” Id.

Identical to the revised GEPS-NPR 4 model contract, the Postal Service will notify each GEPS-NPR 4 Version 2 customer of the contract's effective date no later than 30 days after receiving the signed agreement from the customer. Id., Attachment 3 at 7. Each contract will expire the later of 1 year from the effective date or the last day of the month which falls one calendar year from the effective date unless terminated sooner. Id.

The Postal Service filed many of the supporting materials, including the related model contract, under seal. Id. Attachment 1. It maintains that the redacted portions of the materials should remain confidential as sensitive business information. Id. at 4. This information includes sensitive commercial information concerning the incentive discounts and their formulation, applicable cost coverage, and non-published rates, as well as some customer-identifying information. Id.

II. Notice of Filing

The Commission establishes Docket No. CP2014-22 to consider the changes in rates not of general applicability pertaining to the proposed GEPS-NPR 4 Version 2 contract.

Interested persons may submit comments on whether the Postal Service's filings in the captioned dockets are consistent with the policies of 39 U.S.C. 3632, 3633, or 3642, 39 CFR 3015.5, and 39 CFR part 3020, subpart B. Comments are due no later than January 7, 2014. The public portions of these filings can be accessed via the Commission's Web site (http://www.prc.gov).

The Commission appoints Lyudmila Y. Bzhilyanskaya to serve as Public Representative in these dockets.

III. Request for Supplemental Information

The Postal Service is requested to (1) specify the date on which the GEPS-NPR 4 Version 2 rates are expected to go into effect; and (2) clarify whether the GEPS-NPR 4 Version 2 contract will replace the revised GEPS-NPR 4 contract approved in Order No. 1835. The Postal Service response is due no later than January 3, 2014.

IV. Ordering Paragraphs

It is ordered:

1. The Commission establishes Docket No. CP2014-22 to consider the matters raised by the Notice.

2. Pursuant to 39 U.S.C. 505, Lyudmila Y. Bzhilyanskaya is appointed to serve as officer of the Commission (Public Representative) to represent the interests of the general public in these proceedings.

3. Comments by interested persons in these proceedings are due no later than January 7, 2014.

4. The Secretary shall arrange for publication of this order in the Federal Register.

By the Commission.
Shoshana M. Grove,
Secretary.

[FR Doc. 2013-31540 Filed 1-3-14; 8:45 am]

BILLING CODE 7710-FW-P